DEPARTMENT OF COMMERCE

[Docket No. 160616531-6531-01]

Privacy Act of 1974, Amended System of Records

AGENCY: U.S. Census Bureau, U.S. Department of Commerce.

ACTION: Notice of Amendment, Privacy Act System of Records, COMMERCE/CENSUS-5, Decennial Census Programs.

SUMMARY: In accordance with the Privacy Act of 1974, as amended, and Office of Management and Budget (OMB) Circular A-130, Appendix I, “Federal Agency Responsibilities for Maintaining Records About Individuals,” the Department of Commerce (Department) is issuing a notice of intent to amend the system of records under COMMERCE/CENSUS-5, Decennial Census Programs. This amendment would update: The location of the records covered by the system of records; the categories of individuals and records covered by the system of records; the routine uses; the purpose; the system manager and address; and the policies and practices for storage and safeguarding the system of records. This amendment also makes other minor administrative updates. Accordingly, the COMMERCE/CENSUS-5, Decennial Census Program notice published in the Federal Register on February 24, 2014 (79 FR 10090), is amended as below. We invite public comment on the system amendment announced in this publication.

DATES: To be considered, written comments must be submitted on or before December 5, 2016. Unless comments are received, the amended system of records will become effective as proposed on December 13, 2016. If comments are received, the Department will publish a subsequent notice in the Federal Register within 10 days after the comment period closes, stating that the current system of records will remain in effect until publication of a final action in the Federal Register.

ADDRESSES: Please address comments to: Byron Crenshaw, Privacy Compliance Branch, Room 8H021, U.S. Census Bureau, Washington, DC 20233-3700 or by email: (Byron.Crenshaw@census.gov).

FOR FURTHER INFORMATION CONTACT: Chief, Privacy Compliance Branch, Policy Coordination Office, Room HQ 8H021, U.S. Census Bureau, Washington, DC 20233-3700.

SUPPLEMENTARY INFORMATION: This update makes eight program-related changes. The first of eight proposed changes to program-related provisions updates the location of the system to account for records maintained by a Federal Risk and Authorization Management Program (FedRAMP)-approved cloud service provider. FedRAMP is a government-wide program that provides a standardized approach to security assessment, authorization, and continuous monitoring for cloud products and services. The second proposed change clarifies the categories of individuals covered by the system. The third proposed change updates the categories of records regarding Decennial Census records and clarifies the collection of paradata. Census Bureau employee characteristics and auxiliary data known as paradata also collected during census and survey interviews, pilot tests, and cognitive interviews, are collected under Title 13, U.S.C. and are covered under this Systems of Record Notice (SORN). Paradata covered under Title 5, U.S.C. are covered under SORN COMMERCE/Census-2, Performance Measurement Records. The fourth proposed change updates the routine uses. The fifth proposed change updates the purpose of the system to provide additional information and detail. The sixth proposed change updates the policies and practices for storing the records to include storage by a cloud service provider. The seventh proposed change updates the policies and practices for safeguarding the records in the system. The eighth proposed change updates the system manager and address. This amendment also provides minor administrative updates. The entire resulting system of records notice, as amended, appears below.

COMMERCE/CENSUS-5

System Name:

Decennial Census Programs

Security Classification:

None.

System Location:

U.S. Census Bureau, 4600 Silver Hill Road, Washington, DC 20233-8100; Bureau of the Census, Bowie Computer Center, 17101 Medford Boulevard, Bowie, Maryland 20715; and at a FedRAMP-approved cloud services facility.

Categories of Individuals Covered by the System:

All persons surveyed during the Decennial Census Programs, which include the ongoing American Community Survey (ACS), the Decennial Census of Population and Housing (the Decennial Census), as well as persons participating in the pilot census and survey tests of procedures related to the ACS and the Decennial Census, are covered by the system. Participation in Decennial Census Programs is mandatory. Data collected directly from respondents may be supplemented with data from administrative record files received from other federal, state, or local agencies. Comparable data may also be obtained from private persons and commercial sources. These are collected and processed under the Statistical Administrative Records System. Please see the COMMERCE/CENSUS-8, Statistical Administrative Records System SORN for more information. Field Representative (FR) and interviewer characteristics as well as paradata collected during the Decennial Census Programs (including the same data obtained during recordings) are covered under SORN COMMERCE/Census-2, Performance Measurement Records.

Categories of Records in the System:

Records collected by the ACS and its pilot surveys may contain information such as: Population information—name, address, email address, telephone number (both landline and cell phone number), age, sex, race, Hispanic origin, relationships, housing tenure, number of persons in the household, as well as more detailed information on topics such as marital status and history, fertility, income, employment, education, health insurance or health coverage plans, disability, grandparents as care-givers, and military status and history; Housing information—year built, structure description, uses, features, amenities, number of rooms, utilities, purchase type (e.g., mortgage or deed of trust), and financial characteristics (e.g., home value, property taxes, etc.). Records collected during the Decennial Census and its pilot censuses may contain information such as: Population information—name, address, email address, telephone number (both landline and cell phone number), age, sex, race, Hispanic origin, relationship, housing tenure, number of persons in the household. In accordance with 13 U.S.C. 6(c), information in the Decennial Census Programs may, under specific circumstances and arrangements, also come from administrative records obtained from federal, states, counties, cities, or other units of government. Comparable data may also be obtained from private persons and commercial sources. For instance, the U.S. Census Bureau works with all Federal agencies to obtain counts from their records of federally affiliated Americans overseas. The U.S. Census Bureau also makes arrangements with certain types of facilities (e.g., prisons, long-term care facilities, colleges) to obtain administrative records data on individuals when direct enumeration of those people is not feasible for safety, health, or other reasons. Additional information may be obtained from systems of records notice COMMERCE/CENSUS-8, Statistical Administrative Records. Pilot censuses, surveys, and research study records may contain information on individuals similar to that included in the ACS and Decennial Census. FR and interviewer characteristics as well as paradata collected during the Decennial Census Programs (including data obtained during recordings) may also be collected. Paradata fall into two categories: (1) Paradata protected by Title 13, U.S.C. (“Title 13”), which are covered under this SORN (e.g., method of interview; time and date stamps; deleted changes; audit trail and trace files; item non-response, refusals, and don't know responses; all Internet paradata, including Internet Protocol (IP) address; Global Positioning System (GPS) coordinates; mobile device ID; etc.) and (2) paradata protected by Title 5, U.S.C. (“Title 5”), which are covered under SORN Census-2, Performance Measurement Records (e.g., hours worked on a case, miles driven on a case, survey response rates, cost information, hourly rates for field staff, FR codes, control numbers, login hours, etc.).

Authorities for Maintenance of the System:

13 U.S.C. 6(c), 141 and 193 and 18 U.S.C. 2510-2521.

Purpose(s):

The purpose of this system is to collect statistical information from respondents for the Decennial Census Programs using responses to questions in order to provide key social, housing, and economic data for the nation. The primary uses of ACS data include: Supporting the federal government in administration of programs; providing public officials, planners, and entrepreneurs with information they can use to assess the past and plan for the future; providing information for community planning for hospitals and schools, supporting school lunch programs, improving emergency services, and building bridges; and informing businesses looking to add jobs and expand to new markets. The primary uses of Decennial Census data include: Apportioning the representation among states as mandated by Article 1, Section 2 of the United States Constitution; drawing congressional and state legislative districts, school districts and voting precincts; enforcing voting rights and civil rights legislation; distributing federal dollars to states; informing federal, tribal, state, and local government planning decisions; informing business and nonprofit organization decisions (e.g., where to locate, size of the market); and providing population benchmarks for nearly every other United States survey. Survey records from the Decennial Census Programs are also maintained to conduct research and analysis with survey and administrative data for projects and to undertake methodological evaluations and enhancements by the U.S. Census Bureau improving data collection and quality control. Also, information collected by the Decennial Census is used to provide official census transcripts of the results to the named person(s), their heirs, or legal representatives as described in the system of records notice, COMMERCE/CENSUS-6, Population Census Personal Service Records for 1910 and all subsequent Decennial Censuses (this does not apply to the ACS and pilot census or survey records).

Routine Uses of Records Maintained in the System, Including Categories of Users and the Purposes of Such Uses:

Access to records maintained in the system is restricted to Census Bureau employees and individuals with Special Sworn Status, as defined in Title 13 of the United States Code.

Disclosure to Consumer Reporting Agencies:

None.

None.

Policies and Practices for Storing, Retrieving, Accessing, Retaining, and Disposing of Records in the System:

Storage:

Records (including, but not limited to, sound and video files of survey and cognitive interviews, and pilot tests) are stored in a secure computerized system and on magnetic media; output data will be either electronic or paper copies (including transcripts of sound files). Paper copies or magnetic media are stored in a secure area within a locked drawer or cabinet. Datasets may be accessed only by authorized personnel. Control lists will be used to limit access to those employees with a need to know; rights will be granted based on job functions. Records may also be stored by or at a secure FedRAMP-approved cloud service provider or facility. FedRAMP is a government-wide program that provides a standardized approach to security assessment, authorization, and continuous monitoring for cloud products and services.

Retrievability:

Information collected by the Decennial Census Programs may be retrieved by direct identifiers such as name and address. However, only a limited number of sworn U.S. Census Bureau staff will be permitted to retrieve records containing direct identifiers (such as name or address) for authorized purposes. Staff producing final statistical products will have access only to data sets from which direct identifiers have been deleted and replaced by unique non-identifying codes internal to the U.S. Census Bureau.

Safeguards:

The U.S. Census Bureau is committed to respecting respondent privacy and protecting confidentiality. Through the Data Stewardship Program, we have implemented management, operational, and technical controls and practices to ensure high-level data protection to respondents of our censuses and surveys.

• A policy against unauthorized policy protects respondent information from casual or inappropriate use by any person with access to Title 13 protected data. Unauthorized browsing is defined as the act of searching or looking through, for other than work-related purposes, protected personal or business-related information that directly or indirectly identifies individual persons or businesses. Unauthorized browsing is prohibited.

• All Census Bureau employees and persons with special sworn status permitted to access the system are subject to the restriction, penalties, and prohibitions of 13 U.S.C. 9 and 214, as modified by 18 U.S.C. 3551 et seq.; the Privacy Act of 1974 (5 U.S.C. 552a(b)(4)). Employees of FedRAMP-approved cloud service providers do not have access to Title 13 protected data covered by this system of records. The U.S. Census Bureau's security measures ensure that only a restricted number of authorized people have access to Title 13 protected information and that access is only granted to conduct our work and for no other purposes. Every person who works with the census confidential information collected by the U.S. Census Bureau is sworn for life to uphold the law.

• All U.S. Census Bureau employees and persons with special sworn status will be regularly advised of regulations issued pursuant to Title 13 governing the confidentiality of the data, and will be required to complete an annual Data Stewardship Awareness program.

• All U.S. Census Bureau and FedRAMP-approved computer systems that maintain sensitive information are in compliance with the Federal Information Security Management Act, which includes auditing and controls over access to restricted data. The FedRAMP is a government-wide program that provides a standardized approach to security assessment, authorization, and continuous monitoring for cloud products and services.

• The use of unsecured telecommunications to transmit individually identifiable information is prohibited.

• Paper copies that contain sensitive information are stored in secure facilities in a locked drawer or file cabinet behind a locked door.

• Additional data files containing direct identifiers will be maintained solely for the purpose of data collection activities, such as respondent contact and preloading an instrument for a continued interview, and will not be transferred to, or maintained on, working statistical files.

• Any publications based on this system will be cleared for release under the direction of the U.S. Census Bureau's Disclosure Review Board, which will confirm that all the required disclosure avoidance procedures have been implemented and no information that identifies any individual is released.

Retention and Disposal:

Respondent data collected through the Decennial Census Programs, including personally identifying data, are in some cases captured as images suitable for computer processing. Original paper data sources are destroyed, according to the disposal procedures for Title 13 records, after confirmation of successful electronic data capture and data transmission of the images to U.S. Census Bureau headquarters. For the ACS, personally identifying data are scheduled for permanent retention (excluding sound and video files that are retained in accordance with the General Records Schedule and U.S. Census Bureau records control schedules that are approved by the National Archives and Records Administration (NARA)). For the Decennial Census, a record of individual responses, including all names and other entries provided by the respondent, and all associated address and geographic information for each housing unit or person living in group quarters is scheduled for permanent retention (excluding sound and video files that are retained in accordance with the General Records Schedule and U.S. Census Bureau records control schedules that are approved by the NARA). Pilot and cognitive test data collections, data capture, and data processing records are destroyed when two years old or when no longer needed for U. S. Census Bureau program or evaluation purposes, whichever is later. All records are retained in accordance with the General Records Schedule and U.S. Census Bureau records control schedules that are approved by the NARA (44 U.S.C. 2108).

System Manager(s) and Address:

Associate Director for Decennial Census Programs, U.S. Census Bureau, 4600 Silver Hill Road, Washington, DC 20233-8000.

Notification Procedure:

None.

Record Access Procedure:

None.

Contesting Record Procedure:

None.

Record Source Categories:

Information in the Decennial Census Programs may come from administrative records from federal, states, counties, cities, or other units of government such as: The U.S. Department of Defense and the U.S. Office of Personal Management for enumeration of federally affiliated Americans overseas; tribal, State, and local governments for service-based enumeration of persons without permanent shelter and for address and road updates; the Federal Bureau of Prisons for inmate enumeration; the U.S. Postal Service for address updates; as well as the Departments of Agriculture, Education, Health and Human Services, Homeland Security, Housing and Urban Development, Labor, Treasury, Veterans Affairs, the Office of Personnel Management, the Social Security Administration, the Selective Service System, and the U.S. Postal Service. Comparable data may also be obtained from private persons and commercial sources.

Exemptions Claimed for System:

Pursuant to 5 U.S.C. 552a(k)(4), this system of records is exempted from the otherwise applicable notification, access, and contest requirements of the agency procedures (under 5 U.S.C. 552a(c)(3), (d), (e)(1), (e)(4)(G)-(I) and (f)). This exemption is applicable because the data are maintained by the U.S. Census Bureau solely as statistical records, as required under Title 13, to be used solely as statistical records and are not used in whole or in part in making any determination about an identifiable individual. This exemption is made in accordance with 15 CFR part 4 subpart B.

Michael J. Toland,
Department of Commerce, Deputy Chief FOIA Officer, Department Privacy Act Officer.

[FR Doc. 2016-26516 Filed 11-2-16; 8:45 am]

BILLING CODE 3510-DT-P